DEPARTMENT OF INTERIOR

National Park Service

60-Day Notice of Intention To Request Clearance of Collection of Information; Opportunity for Public Comment

AGENCY: Department of Interior, National Park Service.

ACTION: Notice and request for comments.

SUMMARY: Under the provisions of the Paperwork Reduction Act of 1995 and 5 CFR part 1320, Reporting and Record Keeping Requirements, the National Park Service (NPS) invites public comments on an extension of a currently approved collection of information (OMB #1024-0226).

DATES: Public comments on this Information Collection Request (ICR) will be accepted on or before June 8, 2009.

ADDRESSES: Send comments to: Charlie Stockman, Outdoor Recreation Planner, Rivers, Trails and Conservation Assistance Program, NPS, 1849 C St., NW., (2220), Washington, DC 20240; or via fax at 202/371-5179; or via e-mail at Charlie_Stockman@nps.gov. All responses to the Notice will be summarized and included in the request for the Office of Management and Budget (OMB) approval. All comments will become a matter of public record.

To Request a Draft of Proposed Collection of Information Contact: Charlie Stockman, NPS, 1849 C St., NW., (2220), Washington, DC 20005; or via phone at 202/354-6900; or via fax at 202/371-5179; or via e-mail at Charlie_Stockman@nps.gov. You are entitled to a copy of the entire ICR package free of charge once the package is submitted to OMB for review. You can access this ICR at http://www.reginfo.gov/public/.

SUPPLEMENTARY INFORMATION: Title: National Park Service Partnership Assistance Programs GPRA Information Collection.

Form(s): None.

OMB Control Number: 1024-0226.

Expiration Date: 8/31/2009.

Type of Request: Extension of a currently approved collection of information.

Description of Need: The Government Performance and Results Act (GPRA) of 1995 (Pub. L. 103-62) and the National Park Service (NPS) Strategic Plan require that the NPS develop goals to improve program effectiveness and public accountability. GPRA also requires Federal agencies to prepare annual performance reports documenting the progress made toward achieving long-term goals. Surveys for the Rivers, Trails, and Conservation Assistance Program (RTCA) and the Federal Lands to Parks Program (FLP) will measure performance and suggest improvements towards these goals. Data from these studies are needed to meet the requirement of GPRA and the NPS Strategic Plan. The two programs are to meet Long-term Goal IIIb2. This goal states: 95% of communities served are satisfied with NPS partnership assistance in providing recreational conservation benefits on lands and waters. The NPS needs the information in these collections to assess the annual progress being made toward meeting Long-term Goal IIIb2 of the NPS Strategic Plan.

The proposed surveys will provide the NPS with data from its partners. Partners are those individuals or organizations that seek NPS assistance through these two programs. NPS will obtain critical information to determine if it's meeting the diverse needs of its constituency and how to respond to future changes. The information sought is not collected elsewhere by the Federal Government. The NPS needs this information to help evaluate and improve its partnership assistance programs. NPS' RTCA Program and FLP Program will conduct surveys to assess client satisfaction with the services received and to identify needed program improvements. The NPS goal in conducting these surveys is to use the information to identify areas of strength and weakness in its recreation and conservation assistance programs, to provide an information base for improving those programs, and to provide a required performance measurement (Goal IIIb2 of the National Park Service Strategic Plan) under GPRA. The obligation to respond is voluntary.

Automated Data Collection: The information will be collected primarily through the use of an electronic survey.

Description of respondents: This is a census survey of all principal cooperating organizations and agencies which have received substantial assistance from the Rivers, Trails and Conservation Assistance Program or the Federal Lands to Parks Program during the prior Fiscal Year (October 1 through September 30).

Estimated average number of responses: 150 per year.

Frequency of response: 1 per respondent.

Estimated average time burden per respondent: 10 minutes.

Estimated total annual reporting burden: 25 hours per year.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: March 31, 2009.
Cartina A. Miller,
Information Collection Clearance Officer, National Park Service.

[FR Doc. E9-7717 Filed 4-6-09; 8:45 am]

BILLING CODE